DEPARTMENT OF THE INTERIOR

Bureau of Land Management

[CA-670-1220-00 PD; G0-00]

Notice of Supplementary Rule for Public Lands in California

AGENCY: Bureau of Land Management, El Centro Field Office, California Desert District, Interior.

ACTION: Camping closure of selected Federal lands, Imperial County, CA.

SUMMARY: The Bureau of Land Management's (BLM) El Centro Field Office is issuing a supplementary camping closure rule. This rule is being issued to protect the flat-tailed horned lizard and will apply to the public lands within the East Mesa Flat-tailed Horned Lizard Management Area and the West Mesa Flat-tailed Horned Lizard Management Area in Imperial County, California. Camping will be allowed only in those areas within fifty (50) feet of the centerline of an approved route.

FOR FURTHER INFORMATION CONTACT: Lynnette Elser, Resources Branch Chief, 1661 So. 4th St., El Centro, CA 92243, (760) 337-4420.

SUPPLEMENTARY INFORMATION:

I. Discussion of the Supplementary Rule

BLM has determined this rule is necessary to support the Decision Record for the Western Colorado Desert Routes of Travel Designation (WECO ROT) Plan. Stakeholders participated in the development of this plan and have had opportunity to provide comments on this supplementary rule through the development of the WECO ROT Plan. This rule is final upon publication and applies to public lands described below (all are San Bernardino Meridian).

East Mesa Flat-Tailed Horned Lizard Management Area

[East boundary] Beginning in Sec. 31 in T.16S., R.20E. at the intersection of Frontage Road and West Levee Road on the north side of the All-American Canal, then northwest along the West Levee Road (on west levee of Coachella Canal) to Highway 78 (Glamis Highway) in Sec. 35 in T.13S., R.17E.;

[North boundary] then west on Highway 78 to the intersection with an unnamed dirt road in NW¼NE¼NE¼ Sec. 2 in T.14S., R.16E.;

[West boundary] then south on this dirt road to the intersection with BLM Route A181 in Sec. 23 in T.14S., R.16E., then south on BLM Route A181 to BLM Route A3410 in Sec. 11 in T.15S., R.16E., then eastward and southward on BLM Route A3410 to BLM Route A357 in Sec. 18 in T.15S., R.17E, then east on BLM Route A357 for about 0.3 miles to the west side of Sec. 17 in T.15S., R.17E., then south on the west side of Sec. 17, 20, 29, 32 in T.15S., R.17E and Sec. 5, 8, and 17 in T.16S., R.17E to the Frontage Road on the north side of Interstate Highway 8 in Sec. 17 in T.16S., R.17E.;

[South boundary] then east on Interstate 8 Frontage Road to the west side of E½E½ Sec. 31 in T.16S., R.19E., then due north to the northern side of Sec. 31, then east 1.0 miles to the west side of E½E½ Sec. 32 in T.16S., R.19E., then due south to the Frontage Road, then east to the west side of Sec. 36 in T.16S., R.19E., then north to the N½ Sec. 36, then due east 1 mile to the east side of Sec. 36, then south to Frontage Road, then east on Frontage Road to the West Levee Road.

West Mesa Flat-Tailed Horned Lizard Management Area

[East boundary] Beginning in southeast corner of Sec. 30 in T.14S., R.13E. and north along the east side of Sec. 30, 19, 18, and 7 to the south side of N½ of Sec. 7, then west and north around SW¼NE¼ Sec. 7, then west and north around NW¼NE¼ Sec. 7, then west along the north side of N½ Sec. 7, then north about 0.15 miles along the east side of Sec. 13 in T.14S., R.12E. to the southeast corner of Sec. 12, then in Sec. 12, west and north around E½SE¼, then west and north and east around SW¼NE¼, then north along the west side of NE¼NE¼, then in Sec. 1 in T.15S, R.12E., north along the west side of SW¼SW¼, then west and north around NW¼SE¼, then west and north around E½NW¼, then west to the southeast corner of Sec. 35 in T.13S., R.12E., then north along the west side of Sec. 35 to the northeast corner of Sec. 35, then west and north around E½ of Sec. 26, then west along the northern side of Sec. 26 W½, 27, and 28 to the intersection with BLM Route SF291 (transmission power line service road), then northwest on BLM Route SF291 to the northern side of Sec. 28 in T.12S., R.11E., then west on the north side of Sec. 28 to the southeast corner of Sec. 20, then north on the east side of Sec. 20 to Highway 86, then northwest on Highway 86 to the northern side of Sec. 20, then west on the northern side of Sec. 20 to the southeast corner of Sec. 18 in T.12S., R.11E., then north along the east side of Sec. 18 to Highway 78;

[North boundary] then west on Highway 78 to the west side of Sec. 18 in T.12S., R.10E.;

[West boundary] then south on the west side of Sec. 18 in T.12S., R.10E., then west on the north side of Sec. 24 in T.12S., R.9E. to the west side of Tarantula Wash, then southeast along the west side of Tarantula Wash to the south side of Sec. 24, then east to the northwest corner of Sec. 30 in T.12S., R.10E., then south along the west side of Sec. 30 and east along the south side of Sec. 30, then south on the west side of Sec. 32 and east along the south side of Sec. 32 to Carrizo Wash near the northeast corner of Sec. 5 in T.13S., R.10E., then south along the west side of Carrizo Wash through Sec. 5, 8, 17, 20, 29, and 32 in T.13S., R.10E., and then south through Sec. 5, 8, 17, 20, 29, and 32 in T.14S., R.10E. to the intersection with BLM Route SF397 in NW¼ Sec. 32 in T.14S., R.10E., then southeast on BLM Route SF397 to an unnamed, east-west route along the northern side of the SW¼SE¼ Sec. 15 in T.15S, R.10E., then west about .25 miles to the boundary of the U.S. Navy Target 103 at about the northwest corner of SE¼SE¼ Sec. 15, then south along the boundary of Target 103 (approximately west side of SE¼SE¼ Sec. 15 and E½E½ Sec. 22 to the south side of Sec. 22 in T.15S, R.10E.;

[South boundary] then (along the boundary of Target 103) east on the south side of Sec. 22 and east and south around NW¼ of Sec. 26 in T.15S, R.10E., then east along the south side of NE¼ of Sec. 26 and N½ Sec. 25, in T.15S., R.10E., and N½ Sec. 30 and NW¼ Sec. 19, in T.15S., R. 11E., then north along the east side of NW¼ Sec. 19, then north and east around the S½SW¼ Sec. 20, then north along the east side of Sec. 20 and 17, then east along the south side of Sec. 9, then north along the east side of Sec. 9, then east along the north side of Sec. 10, then north along the east side of Sec. 3, in T.15S., R.11E and along the east side of Sec. 34 and 27 in T.14S., R.11E, then diagonally from the southeast corner to the northwest corner across Sec. 22, the west along the north side of Sec. 21, then north on the east side of Sec. 17 to the 120-ft. contour line, then northwest on this contour line to the intersection with BLM Route SF274 in Sec. 17 T.14S., R.11E., then northwest on BLM Route SF274 to the intersection with BLM Route SF391 in Sec. 6 T.14S., R.11E., then southwest on BLM Route SF391 to the boundary of U.S. Navy Target 101 in Sec. 32 T.14S., R.12E., then southeast along the boundary of Target 101 to the southwest corner of Sec. 34 in T.14S., R.12E., then west on the south side of Sec. 34, 35, and 36 in T.14S., R.12E., then south along the west side of Sec. 30 in T.14S., R. 13E., then along the south side of Sec. 30 to the southeast corner of Sec. 30.

II. Procedural Matters

Executive Order 12866, Regulatory Planning and Review

This supplementary rule is not a significant regulatory action and is not subject to review by the Office of Management and Budget under Executive Order 12866. This supplementary rule will not have an effect of $100 million or more on the economy. It will not adversely affect in a material way the economy, productivity, competition, jobs, the environment, public health or safety, or State, local, or tribal governments or communities. This supplementary rule will not create a serious inconsistency or otherwise interfere with an action taken or planned by another agency. This supplementary rule does not alter the budgetary effects of entitlements, grants, user fees, or loan programs or the right or obligations of their recipients; nor does it raise novel legal or policy issues. The supplementary rule simply bans camping in certain areas in order to protect natural and cultural resources.

Clarity of the Regulations

Executive Order 12866 requires each agency to write regulations that are simple and easy to understand. We invite your comments on how to make this supplementary rule easier to understand, including answers to questions such as the following:

1. Are the requirements in the supplementary rule clearly stated?

2. Does the supplementary rule contain technical language or jargon that interferes with their clarity?

3. Does the format of the supplementary rule (grouping and order of sections, use of headings, paragraphing, etc.) aid or reduce clarity?

4. Is the description of the supplementary rule in the SUPPLEMENTARY INFORMATION section of this preamble helpful in understanding the supplementary rule? How could this description be more helpful in making the supplementary rule easier to understand?

Please send any comments you have on the clarity of the rule to the address specified in the ADDRESSES section.

National Environmental Policy Act

BLM prepared an “Environmental Assessment and Draft Plan Amendment for Western Colorado Desert Routes of Travel Designation” (EA) dated October 2002 that anticipates this supplementary rule. This was followed by a December 13, 2002, “Proposed Amendment to the California Desert Conservation Area Plan for Western Colorado Desert Routes of Travel Designation and Errata Sheet for the Environmental Assessment.” In these documents, BLM found that the supplementary rule would not constitute a major Federal action significantly affecting the quality of the human environment under section 102(2)(C) of the National Environmental Policy Act of 1969 (NEPA), 42 U.S.C. 4332(2)(C). The Finding of No Significant Impact was signed January 31, 2003. A detailed statement under NEPA is not required. BLM has placed the EA and the Finding of No Significant Impact (FONSI) on file in the BLM Administrative Record at the address specified in the ADDRESSES section.

Regulatory Flexibility Act

Congress enacted the Regulatory Flexibility Act of 1980, as amended, 5 U.S.C. 601-612, to ensure that Government regulations do not unnecessarily or disproportionately burden small entities. The RFA requires a regulatory flexibility analysis if a rule would have a significant economic impact, either detrimental or beneficial, on a substantial number of small entities. This supplementary rule simply bans camping in certain areas in order to protect natural and cultural resources, and does not affect commercial or business activities of any kind. Therefore, BLM has determined under the RFA that this supplementary rule would not have a significant economic impact on a substantial number of small entities.

Small Business Regulatory Enforcement Fairness Act (SBREFA)

This supplementary rule is not a “major rule” as defined at 5 U.S.C. 804(2). The supplementary rule simply bans camping in certain areas in order to protect natural and cultural resources, and does not affect commercial or business activities of any kind.

Unfunded Mandates Reform Act

This supplementary rule does not impose an unfunded mandate on State, local, or tribal governments or the private sector of more than $100 million per year; nor does it have a significant or unique effect on State, local, or tribal governments or the private sector. The supplementary rule simply bans camping in certain areas in order to protect natural and cultural resources, and does not affect tribal, commercial, or business activities of any kind. Therefore, BLM is not required to prepare a statement containing the information required by the Unfunded Mandates Reform Act (2 U.S.C. 1531 et seq.)

Executive Order 12630, Governmental Actions and Interference With Constitutionally Protected Property Rights (Takings)

The supplementary rule does not represent a government action capable of interfering with Constitutionally-protected property rights. It simply bans camping in certain areas in order to protect natural and cultural resources, and does not affect anyone's property rights. Therefore, the Department of the Interior has determined that this rule will not cause a taking of private property or require further discussion of takings implications under this Executive Order.

Executive Order 13132, Federalism

The supplementary rule will not have a substantial direct effect on the States, on the relationship between the national government and the States, or on the distribution of power and responsibilities among the various levels of government. The supplementary rule does not come into conflict with any state law or regulation. Therefore, in accordance with Executive Order 13132, BLM has determined that the supplementary rule does not have sufficient Federalism implications to warrant preparation of a Federalism Assessment.

Executive Order 12988, Civil Justice Reform

Under Executive Order 12988, the Office of the Solicitor has determined that this rule will not unduly burden the judicial system and that it meets the requirements of sections 3(a) and 3(b)(2) of the Order.

Executive Order 13175, Consultation and Coordination With Indian Tribal Governments

In accordance with Executive Order 13175, we have found that the supplementary rule does not include policies that have tribal implications. None of the lands included in this rule affects Indian lands or Indian Rights. Coordination was conducted through preparation of the WECO ROT Plan with all affected tribes.

Paperwork Reduction Act

The supplementary rule does not contain information collection requirements that the Office of Management and Budget must approve under the Paperwork Reduction Act of 1995, 44 U.S.C. 3501 et seq. The information collection requirements contained in this rule are exempt from the provisions of the Paperwork Reduction Act of 1995, 44 U.S.C. 3518(c)(1). Federal criminal investigations or prosecutions may result from this rule and are exempt from the Paperwork Reduction Act.

Authors

The principal author of this supplementary rule is Chief Ranger Robert Zimmer.

Supplementary Rule

Under 43 CFR 8365.1-6, the Bureau of Land Management will enforce the following rule on public lands in Imperial County, CA, within the jurisdiction of the El Centro Field Office, California Desert District. A more detailed explanation as to the need for such a rule may be found in the Western Colorado Desert Routes of Travel Designation dated October 2002 and signed January 31, 2003.

You must follow this rule:

1. Within the East and West Mesa Flat-tailed Horned Lizard Management Areas, persons may vehicle-camp only within fifty (50) feet of the centerline of approved routes of travel as identified in the Western Colorado Desert Routes of Travel Designation Decision Record, dated January 31, 2003.

2. This rule does not supercede other rules or regulations or allow camping within any areas where camping is further restricted by other rules or regulations.

Penalties

Under section 303(a) of the Federal Land Policy and Management Act of 1976 (43 U.S.C. 1733(a) and 43 CFR 8360.0-7) if you violate this supplementary rule on public lands within the boundaries established in the rule, you may be tried before a United States Magistrate and fined no more than $1,000 or imprisoned for no more than 12 months, or both. Such violations may also be subject to the enhanced fines provided for by 18 U.S.C. 3571.

Editorial Note: This document was received in the Office of the Federal Register on April 6, 2004.

Dated: December 29, 2003.
J. Anthony Danna,
Acting California State Director.

[FR Doc. 04-8147 Filed 4-9-04; 8:45 am]

BILLING CODE 4392-68-P